DEPARTMENT OF HOMELAND SECURITY

Coast Guard

[Docket No. USCG-2009-0714]

National Maritime Security Advisory Committee; Meeting

AGENCY: Coast Guard, DHS.

ACTION: Notice of meeting.

SUMMARY: The National Maritime Security Advisory Committee (NMSAC) will conduct a meeting by teleconference on August 24, 2009. This teleconference will be open to the public.

DATES: The Committee will meet on August 24, 2009 from 1 p.m. to 3 p.m. This meeting may close early if all business is finished. Written material and requests to make oral presentations should reach the Coast Guard on or before August 17, 2009. Requests to have a copy of your material distributed to each member of the committee or subcommittee should reach the Coast Guard on or before August 17, 2009.

ADDRESSES: The NMSAC teleconference calls will be hosted in room 6228, U.S. Coast Guard Headquarters, 2100 Second St., SW., Washington, DC 20593. Public participation is limited to monitoring the teleconference only, except at the time allotted by the chairperson for public comment; special note, the number of teleconference lines is limited and available on a first-come, first-served basis. For call-in information or to send written material and requests to make oral presentations contact Mr. Ryan Owens, Executive Secretary of NMSAC, at ryan.f.owens@uscg.mil, Commandant (CG-5441), ATTN NMSAC DFO/EA, U.S. Coast Guard, 2100 2nd St., SW., STOP 7581, Washington, DC 20593-7581. This notice is available in our online docket, USCG-2009-0714, at http://dms.dot.gov.

FOR FURTHER INFORMATION CONTACT: Ryan F. Owens Executive Secretary of NMSAC at 202-372-1108.

SUPPLEMENTARY INFORMATION: Notice of this meeting is given under the Federal Advisory Committee Act, 5 U.S.C. App. (Pub. L. 92-463).

Agenda of Meeting

The agenda for the August 24 Committee meeting is as follows:

(1) Maritime Information Sharing Taskforce Briefing

(2) Discussion of a Certain Dangerous Cargo (CDC) Tasking for the Committee

Procedural

This meeting is open to the public. Please note that the meeting may close early if all business is finished. At the Chair's discretion, members of the public may make oral presentations during the meeting. If you would like to make an oral presentation at a meeting, please notify the Executive Secretary no later than August 17. Written material for distribution at a meeting should reach the Coast Guard no later than August 17. If you would like a copy of your material distributed to each member of the committee or subcommittee in advance of a meeting, please submit 25 copies to the Executive Secretary no later than August 17.

Information on Services for Individuals With Disabilities

For information on facilities or services for individuals with disabilities or to request special assistance at the meeting, contact the Executive Secretary as soon as possible.

Dated: 28 July, 2009.
Ryan F. Owens,
Acting Designated Federal Official, U.S. Coast Guard, Office of Port and Facility Activities.

[FR Doc. E9-18511 Filed 8-3-09; 8:45 am]

BILLING CODE 4910-15-P